DEPARTMENT OF VETERANS AFFAIRS

Medical Research Service Merit Review Committee, Notice of Meetings

The Department of Veterans Affairs gives notice under the Public Law 92-463 (Federal Advisory Committee Act) that the Medical Research Service Merit Review Committee will meet from 9 a.m. to 3 p.m. on January 13, 2004, at the Governor's House Hotel, 1615 Rhode Island Avenue, NW., Washington, DC.

The purpose of the Committee is to provide advice to the Under Secretary for Health on the review of the scientific merit of research conducted in each specialty by Department of Veterans Affairs (VA) investigators working in VA Medical Centers and Clinics.

The meeting will be open to the public for approximately one hour at the start to discuss the general status of the program. The remaining portion of the meeting will be closed to the public for discussion and evaluation of the scientific review of initial and renewal projects.

The closed portion of the meeting involves discussion, examination, reference to and oral review of site visits, staff and consultant critiques of research protocols and similar documents. During the portion of the meeting, discussion and recommendations will deal with qualifications of personnel conducting the studies, the disclosure of which would constitute a clearly unwarranted invasion of personal privacy, as well as research information, the premature disclosure of which could significantly frustrate implementation of proposed agency action regarding such research projects.

As provided by subsection 10(d) of Public Law 92-463, as amended, closing a portion of the meeting is in accordance with 5 U.S.C. 552b(c)(b) and (9)(B). Those who plan to attend or would like to obtain a copy of minutes of the meeting should contact LeRoy G. Frey, Ph.D., Chief, Program Review Division, Medical Research Service (121F), Department of Veterans Affairs, Washington, DC, (202) 254-0288.

Dated: December 19, 2003.
By Direction of the Secretary.
E. Philip Riggin,
Committee Management Officer.

[FR Doc. 03-31815 Filed 12-24-03; 8:45 am]

BILLING CODE 8320-01-M